DEPARTMENT OF COMMERCE

National Oceanic and Atmospheric Administration

[RTID 0648-XB127]

Fishing Capacity Reduction Program for the Southeast Alaska Purse Seine Salmon Fishery

AGENCY: National Marine Fisheries Service (NMFS), National Oceanic and Atmospheric Administration, Commerce.

ACTION: Notice that the 2021 season fee rates will not change.

SUMMARY: NMFS performs an annual evaluation of the Southeast Alaska Purse Seine Salmon Fishing Capacity Reduction (Buyback) Loans. Our analysis reveals Loan A (or BBSA-001A) is currently ahead of schedule and Loan B (or BBSA-001B) is 2 years, or approximately $410,000, behind its scheduled amortization. Due to the impact of the Covid-19 pandemic, NMFS has determined it is in the best interest of the fishery to keep the annual Buyback fee rates for both Loan A and Loan B at 1 percent for 2021. Maintaining the current fee rates will minimally impact Loan A and Loan B will receive approximately $30,000 more than the scheduled annual amortized amount. The 2021 fishing season runs from June 1, 2021 through December 31, 2021.

DATES: The Buyback Loan A and Loan B program fee rates will remain at 1 percent beginning with landings on June 1, 2021. The first due date for fee payments at these rates will be July 15, 2021.

ADDRESSES: Send questions about this notice to Elaine Saiz, Chief, Financial Services Division, National Marine Fisheries Service, 1315 East-West Highway—13th Floor, Silver Spring, MD 20910-3282.

FOR FURTHER INFORMATION CONTACT: Elaine Saiz, (301) 427-8752.

SUPPLEMENTARY INFORMATION:

I. Purpose

The purpose of this notice is to announce the continuance of the current fee rates for the reduction fishery in accordance with the framework rule's 50 CFR 600.1013(b). Section 600.1013(b) directs NMFS to recalculate the fee to a rate that will be reasonably necessary to ensure reduction loan repayment within the specified 40-year term.

For the 2020 fishing season, the fee rate for both Loan A and Loan B was 1 percent of the landed value and any subsequent bonus payment. For the 2021 fishing season, the fee rate will remain unchanged at 1 percent for both Loan A and Loan B. A letter was previously sent by mail informing all Buyback permit holders and buyers that the rates would remain at 1 percent for each loan in the 2021 season. Fish buyers may continue to use Pay.gov to disburse collected fee deposits at: http://www.pay.gov/paygov/. Please visit the NOAA Fisheries website for additional information at: https://www.fisheries.noaa.gov/alaska/funding-and-financial-services/southeast-alaska-purse-seine-salmon-fishery-buyback-program.

II. Notice

The fee rates for the Buyback Loans A and B are effective June 1, 2021.

Fish sellers and fish buyers must pay and collect the fee in the manner set out in 50 CFR 600.1107 and the framework rule. Consequently, all harvesters and fish buyers should read subpart L to § 600.1013 to understand how fish harvesters must pay and fish buyers must collect the fee.

Authority: 16 U.S.C. 1861 et seq.; Pub. L. 108-447.

Dated: June 8, 2021.
Brian T. Pawlak,
Chief Financial Officer/Chief Administrative Officer, Director, Office of Management and Budget, National Marine Fisheries Service.

[FR Doc. 2021-12667 Filed 6-15-21; 8:45 am]

BILLING CODE 3510-22-P